NUCLEAR REGULATORY COMMISSION

[Docket No. 50-275; Docket No. 50-323]

In the Matter of Pacific Gas & Electric Company (Diablo Canyon Nuclear Power Plant, Units 1 and 2); Notice of Appointment of Adjudicatory Employee

Pursuant to 10 CFR 2.4, notice is hereby given that Dr. Tianqing Cao, Senior Seismologist, Office of Nuclear Material Safety and Safeguards, has been appointed as a Commission adjudicatory employee within the meaning of section 2.4, to advise the Commission regarding issues relating to a pending appeal filed by petitioner Friends of the Earth. Dr. Cao has not previously performed any investigative or litigating function in connection with this proceeding. Until such time as a final decision is issued in this matter, interested persons outside the agency and agency employees performing investigative or litigating functions in this proceeding are required to observe the restrictions of 10 CFR 2.347 and 2.348 in their communications with Dr. Cao.

It is so ordered.

For the Commission.
Dated at Rockville, Maryland, this 25th day of March, 2016.
Andrew L. Bates,
Acting Secretary of the Commission.

[FR Doc. 2016-07306 Filed 3-30-16; 8:45 am]

BILLING CODE P